Executive Order 14378 of January 23, 2026

Continuance of the Federal Emergency Management Agency Review Council

By the authority vested in me as President by the Constitution and the laws of the United States of America, and consistent with chapter 10 of title 5, United States Code (commonly known as the Federal Advisory Committee Act), it is hereby ordered:

Section 1. The Federal Emergency Management Agency Review Council, created by Executive Order 14180 of January 24, 2025 (Council to Assess the Federal Emergency Management Agency), is continued until March 25, 2026.

Sec. 2. Notwithstanding the provisions of any other Executive Order, the functions of the President under the Federal Advisory Committee Act that are applicable to the Federal Emergency Management Agency Review Council shall be performed by the Secretary of Homeland Security, in accordance with the regulations, guidelines, and procedures established by the Administrator of General Services.

Sec. 3. This order shall be effective January 24, 2026.

Sec. 4. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the Department of Homeland Security.

THE WHITE HOUSE,

January 23, 2026.

[FR Doc. 2026-01872

Filed 1-28-26; 11:15 am]

Billing code 4410-10-P